DEPARTMENT OF COMMERCE

National Oceanic and Atmospheric Administration

RIN: 0648-XI28

Caribbean Fishery Management Council; Public Meeting

AGENCY: National Marine Fisheries Service (NMFS), National Oceanic and Atmospheric Administration (NOAA), Commerce.

ACTION: Notice of a public meeting.

SUMMARY: The Caribbean Fishery Management Council will hold a meeting of its Annual Catch Limit Plan Development Group (ACLG)

DATES: The ACLG will meet on June 24-25, 2008.

ADDRESSES: The meeting will be held at the Best Western San Juan Airport Hotel and Casino, located at the Luis Munoz Marin Airport, in Carolina, Puerto Rico.

FOR FURTHER INFORMATION CONTACT: Caribbean Fishery Management Council, 268 Munoz Rivera Avenue, Suite 1108, San Juan, Puerto Rico 00918; telephone: (787) 766-5926.

SUPPLEMENTARY INFORMATION: The ACLG will meet to discuss the items contained in the following agenda:

•Call to Order

•Overview of ACLG (Annual Catch Limit Plan Development Group) Tasks

•Report from the Technical Monitoring and Compliance Team (TMCT) on:

-Fisheries Overfished and undergoing overfishing

-Other fisheries

•Determination of ACLs and AMs

-By Fishery (SFA Units: Groupers Unit 4, Parrotfishes, Queen Conch. etc.)

-By Species

-By Area

-By Gear

•Recommendations to the SSC

•Other Business

•Next Meeting

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. For more information or request for sign language interpretation and/other auxiliary aids, please contact Mr. Miguel A. Rolon, Executive Director, Caribbean Fishery Management Council, 268 Munoz Rivera Avenue, Suite 1108, San Juan, Puerto Rico 00918, telephone (787) 766-5926, at least 5 days prior to the meeting date.

Dated: June 2, 2008
Tracey L. Thompson,
Acting Director, Office of Sustainable Fisheries, National Marine Fisheries Service.

[FR Doc. E8-12593 Filed 6-4-08; 8:45 am]

BILLING CODE 3510-22-S